DEPARTMENT OF TRANSPORTATION

Federal Aviation Administration

Notice of a Finding of No Significant Impact (FONSI) and Record of Decision (ROD) on a Final Environmental Assessment (FEA) for the Proposed Federal Action at Covington Municipal Airport, Covington, GA

AGENCY: Federal Aviation Administration, DOT.

ACTION: Notice.

SUMMARY: The FAA is issuing this notice to advise the public of the approval of a FONSI/ROD on an FEA for a proposed Federal action Covington Municipal Airport, Covington, GA. The FONSI/ROD states that the proposed projects are consistent with the National Environmental Policy Act of 1969 and will not significantly affect the quality of the environment.

The FEA evaluated Covington Municipal Airport's proposal to extend Runway 10/28 1,300 feet to a total length of 5,500 feet, widen Runway 10/28 25 feet to a total width of 100 feet, extend existing parallel taxiways, relocation of the visual approach descent indicators, install an Airport Weather Observation System, and install a Medium Intensity Approach Lighting System (MALSF).

After reviewing the FEA, the FAA has determined that project would not significantly affect the quality of the human environment. Therefore, the preparation of an Environmental Impact Statement (EIS) is not required.

The FEA and the FONSI/ROD are available for review at:

FAA Southern Region, Atlanta Airports District Office, 1701 Columbia Avenue, Suite 2-260, College Park, GA 30337.

Covington City Hall, 2194 Emory Street, NW., Covington, GA 30014.

Oxford City Hall, 110 W. Clark Street, Oxford, GA 30054.

Newton County Library, 7116 Floyd Street, Covington, GA 30014.

FOR FURTHER INFORMATION CONTACT: Parks Preston, Federal Aviation Administration, Atlanta Airports District Office, 1701 Columbia Avee., Campus Bldg., Suite 2-260, College Park, FA 30337. (404) 305-7149.

Issued in College Park, Georgia, on June 30, 2004.
Scott L. Seritt,
Manager, Atlanta Airports District Office.

[FR Doc. 04-16850 Filed 7-22-04; 8:45 am]

BILLING CODE 4910-13-M